DEPARTMENT OF DEFENSE

Department of the Army

Armed Forces Epidemiological Board; Meeting

AGENCY: Department of the Army, DoD.

ACTION: Notice of partially-closed meeting.

SUMMARY: In accordance with section 10(a)(2) of Public Law 92-463, The Federal Advisory Committee Act, announcement is made of the following meeting:

Name of Committee: Armed Forces Epidemiological Board (AFEB).

Dates: May 23, 2006 (Partially-Closed meeting, 1545-1615).

May 24, 2006 (Open meeting).

Times: 8 a.m.-3:30 p.m. (May 23, 2006). 8 a.m.-4 p.m. (May 24, 2006).

Location: The Renaissance Ilikai Waikiki Hotel, 1777 Ala Moana Boulevard, Honolulu, Hawaii 96815.

Agenda: The purpose of the meeting is to address pending and new Board issues, provide briefings for Board members on topics related to ongoing and new Board issues, conduct subcommittee meetings, and conduct an executive working session.

FOR FURTHER INFORMATION CONTACT: Colonel Roger Gibson, Executive Secretary, Armed Forces Epidemiological Board, Skyline Six, 5109 Leesburg Pike, Room 682, Falls Church, VA 22041-3258, (703) 681-8012/3.

SUPPLEMENTARY INFORMATION: In the interest of national security, and in accordance with Title 5, United States Code (U.S.C.) Appendix 2, Section 10(d) and 5 U.S.C. 552b(c)(1), two sessions on May 23 will be partially closed to the public as the briefings will cover “For Official Government Use Only” information. The briefings will cover biowarfare countermeasures and medically actionable information from the combat theater. In addition, any classified portions of the meeting minutes may be withheld from public disclosure in accordance with 5 U.S.C. Appendix 2, Section 10(b) and 5 U.S.C. 552(b)(1). The session on March 8, 2006 will be open to the public in accordance with Section 552b(c) of Title 5, U.S.C., specifically subparagraph (1) thereof and Title 5, U.S.C., appendix 1, subsection 10(d). Open sessions of the meeting will be limited by space accommodations. Any interested person may attend, appear before or file statements with the committee at the time and in the manner permitted by the committee.

Brenda S. Bowen,
Army Federal Register Liaison Officer.

[FR Doc. 06-4239 Filed 5-4-06; 8:45 am]

BILLING CODE 3710-08-M